NUCLEAR REGULATORY COMMISSION

[Docket No. 40-8943;ASLBP No. 07-859-03-MLA-BD01]

Crow Butte Resources, Inc. (North Trend Expansion Project); Notice of Atomic Safety and Licensing Board Reconstitution

Pursuant to 10 CFR 2.313(c) and 2.321(b), the Atomic Safety and Licensing Board in the above-captioned North Trend Expansion Project license amendment proceeding is hereby reconstituted by appointing Administrative Judge G. Paul Bollwerk, III to serve as Chairman in place of Administrative Judge Ann Marshall Young.

All correspondence, documents, and other materials shall continue to be filed in accordance with the NRC E-filing rule. See 10 CFR 2.302 et seq.

Issued at Rockville, Maryland this 15th day of April 2015.
E. Roy Hawkens,
Chief Administrative Judge, Atomic Safety and Licensing Board.

[FR Doc. 2015-09261 Filed 4-20-15; 8:45 am]

BILLING CODE 7590-01-P